DEPARTMENT OF HEALTH AND HUMAN SERVICES

Indian Health Service

Reimbursement Rates for Calendar Year; Correction

AGENCY: Indian Health Service, HHS.

ACTION: Notice; correction.

SUMMARY: The Indian Health Service published a document Federal Register on June 20, 2007, concerning rates for inpatient and outpatient medical care provided by Indian Health Service facilities for Calendar Year 2007 for Medicare and Medicaid beneficiaries of other Federal Programs. The document contained five incorrect rates.

FOR FURTHER INFORMATION CONTACT: Mr. Elmer Brewster, Special Assistant, Office of Resource Access and Partnerships, Indian Health Service, 801 Thompson Avenue, Suite 360, Rockville, MD 20852, Telephone 301-443-2419. (This is not a toll-free number.)

Corrections

In the Federal Register of June 20, 2007, in FR Doc. 07-3037, on page 34018, in the third column, under the heading “Inpatient Hospital Per Diem Rate (Excludes Physician/Practitioner Services)” “Lower 48 States: $1725. Alaska: $2,208.” should read “Lower 48 States: $1726. Alaska: $2215.” Under the heading, “Outpatient Per Visit Rate (Excluding Medicare)” “Alaska: $398.” should read “Alaska: $405.” Under the heading, “Outpatient Per Visit Rate (Medicare)” “Alaska: $356.” should read “Alaska: $354.” Under the heading, “Medicare Part B Inpatient Ancillary Per Diem Rate” “Alaska: $613.” should read “Alaska: $625.”

Dated: June 25, 2007.
Phyllis Eddy,
Deputy Director for Management Operations, Indian Health Service.

[FR Doc. 07-3203 Filed 6-29-07; 8:45 am]

BILLING CODE 4165-16-M